DEPARTMENT OF STATE

[Public Notice 8223]

Waiver of Restriction on Assistance to the Central Government of Niger

Pursuant to Section 7031(b)(3) of the Department of State, Foreign Operations, and Related Programs Appropriations Act, 2010 (Division F, Pub. L. 112-74) (“the Act”), and Department of State Delegation of Authority Number 245-1, I hereby determine that it is important to the national interest of the United States to waive the requirements of Section 7031(b)(1-2) of the Act with respect to Niger and I hereby report the waiver of this restriction.

This determination shall be reported to the Congress, and published in the Federal Register.

Thomas R. Nides,
Deputy Secretary for Management and Resources.

[FR Doc. 2013-05829 Filed 3-12-13; 8:45 am]

BILLING CODE 4710-26-P